DEPARTMENT OF THE INTERIOR

National Park Service

[NPS-WASO-NAGPRA-19813; PPWOCRADN0-PCU00RP14.R50000]

Notice of Inventory Completion: Hudson Museum, University of Maine, Orono, ME

AGENCY: National Park Service, Interior.

ACTION: Notice.

SUMMARY: The Hudson Museum, University of Maine has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Hudson Museum, University of Maine. If no additional requestors come forward, transfer of control of the human remains to the Indian tribes or Native Hawaiian organizations stated in this notice may proceed.

DATES: Representatives of any Indian tribe or Native Hawaiian organization not identified in this notice that wish to request transfer of control of these human remains should submit a written request with information in support of the request to the Hudson Museum, University of Maine at the address in this notice by January 11, 2016.

ADDRESSES: Gretchen Faulkner, Hudson Museum, University of Maine, 5746 Collins Center for the Arts, Orono, ME 04469-5747, telephone (207) 581-1904, email gretchen_faulkner@umit.maine.edu.

SUPPLEMENTARY INFORMATION: Notice is here given in accordance with the Native American Graves Protection and Repatriation Act (NAGPRA), 25 U.S.C. 3003, of the completion of an inventory of human remains under the control of the Hudson Museum, Orono, ME. The human remains were removed from present-day Kiowa County, CO.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Marcella Sorg, Ph.D., D-ABGFA Forensic Anthropologist and Hudson Museum professional staff, in consultation with representatives of the Cheyenne and Arapaho Tribes, Oklahoma (previously listed as the Cheyenne-Arapaho Tribes of Oklahoma).

History and Description of the Remains

In the 1860s, human remains representing, at minimum, one individual were removed by Colonel Henry Inman from the Smoky Hill Reservation, in what was then Kansas. Based on additional research undertaken by the Hudson Museum, it would appear that the human remains were probably removed from the site of the Sand Creek Massacre in present day Kiowa County, CO. The human remains represent one individual and consist of a partial cranium of a male age 25-40. The human remains came to the Hudson Museum as a transfer from the former Portland Museum of Natural History in 1970. They were given catalog number AMUa27640. No known individuals were identified. No associated funerary objects are present.

Determinations Made by the Hudson Museum, University of Maine

Officials of the Hudson Museum, University of Maine have determined that:

• Pursuant to 25 U.S.C. 3001(9), the human remains described in this notice are Native American based on an analysis by a forensic anthropologist.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of Cheyenne and Arapaho Tribes, Oklahoma (previously listed as the Cheyenne-Arapaho Tribes of Oklahoma) and the Arapaho Tribe of the Wind River Reservation, Wyoming.

• Treaties, Acts of Congress, or Executive Orders, indicate that the land from which the Native American human remains were removed is the aboriginal land of Cheyenne and Arapaho Tribes, Oklahoma (previously listed as the Cheyenne-Arapaho Tribes of Oklahoma) and the Arapaho Tribe of the Wind River Reservation, Wyoming.

• Pursuant to 43 CFR 10.11(c)(1), the disposition of the human remain may be to the Cheyenne and Arapaho Tribes, Oklahoma (previously listed as the Cheyenne-Arapaho Tribes of Oklahoma) and the Arapaho Tribe of the Wind River Reservation, Wyoming.

Additional Requestors and Disposition

Representatives of any Indian tribe or Native Hawaiian organization not identified in this notice that wish to request transfer of control of these human remains should submit a written request with information in support of the request to Gretchen Faulkner, Hudson Museum, University of Maine, 5746 Collins Center for the Arts, Orono, ME 04469-5746, telephone (207) 581-1904, email gretchen_faulkner@umit.maine.edu, by January 11, 2016. After that date, if no additional requestors have come forward, transfer of control of the human remains to the Cheyenne and Arapaho Tribes, Oklahoma (previously listed as the Cheyenne-Arapaho Tribes of Oklahoma) and the Arapaho Tribe of the Wind River Reservation, Wyoming, may occur.

The Hudson Museum, University of Maine is responsible for notifying the Cheyenne and Arapahoe Tribes, Oklahoma (previously listed as the Cheyenne-Arapaho Tribes of Oklahoma) and the Arapaho Tribe of the Wind River Reservation, Wyoming, that this notice has been published.

Dated: November 17, 2015.
Melanie O'Brien,
Manager, National NAGPRA Program.

[FR Doc. 2015-31320 Filed 12-10-15; 8:45 am]

BILLING CODE 4312-50-P